DEPARTMENT OF AGRICULTURE

Animal and Plant Health Inspection Service

[Docket No. APHIS-2008-0042]

Control of Russian Knapweed; Availability of an Environmental Assessment and Finding of No Significant Impact

AGENCY: Animal and Plant Health Inspection Service, USDA.

ACTION: Notice.

SUMMARY: We are advising the public that an environmental assessment and finding of no significant impact has been prepared by the Animal and Plant Health Inspection Service relative to the environmental release of the gall wasp Aulacidea acroptilonica for the biological control of Russian knapweed (Acroptilon repens). The environmental assessment documents our review and analysis of environmental impact associated with, and alternatives to, the release of this biological control agent. Based on its finding of no significant impact, the Animal and Plant Health Inspection Service has determined that an environmental impact statement need not be prepared.

FOR FURTHER INFORMATION CONTACT: Dr. Robert S. Johnson, Branch Chief, Permits, Registrations, Imports and Manuals, PPQ, APHIS, 4700 River Road Unit 133, Riverdale, MD 20737-1236; (301) 734-5055.

SUPPLEMENTARY INFORMATION:

Background

Russian knapweed (Acroptilon repens) is an aggressive, long-lived perennial in the Asteraceae or sunflower family that thrives in both irrigated and arid environments, and in cropland, pastures, rangeland, shrubland, and wasteland. It is difficult to control in alfalfa, clover, other forage crops, and pastures. It reduces wildlife habitat and suppresses the growth of other plants.

Russian knapweed has no known beneficial qualities. It is not utilized for forage because of its bitter taste, and may cause neurological disorders in horses if consumed. The quality of flour or other grain products that have been contaminated by Russian knapweed is reduced due to the bitter taste it imparts. Studies indicate that the spread of Russian knapweed may have a significant economic impact.

Russian knapweed reproduces primarily vegetatively from a primary vertical root with numerous lateral roots. It is a strong competitor and produces compounds that exclude other plant species. Russian knapweed seeds may be spread through infested hay or crop seeds or through the movement of cattle, as the seeds are able to survive the digestive system of these animals.

Estimated Russian knapweed acreage for the Western United States and Canada for the year 2000 totaled over 1,561,714 acres, with 80 percent of the affected acreage located in the States of Washington, Idaho, Colorado, and Wyoming.

Aulacidea acroptilonica is a small gall-forming wasp that has been demonstrated through specificity testing and field observations reported in scientific literature to attack only Russian knapweed. Gall induction diverts nutrients from flower formation, seed production, and the normal growth of plant tissues, thus reducing the plant's competitive ability and seed production.

On April 24, 2008, we published in the Federal Register (73 FR 22127-22128, Docket No. APHIS-2008-0042) a notice ¹ in which we announced the availability, for public review and comment, of an environmental assessment entitled “Field Release of Aulacidea acroptilonica (Hymenoptera: Cynipidae), an Insect for Biological Control of Russian Knapweed (Acroptilon repens), in the Continental United States” (January 22, 2008) that examined the potential environmental impacts associated with the proposed use of A. acroptilonica as an agent for the biological control of Russian knapweed.

¹ To view the notice, the environmental assessment, and the finding of no significant impact, go to http://www.regulations.gov/fdmspublic/component/main?main=DocketDetail&d=APHIS-2008-0042.

We solicited comments on the environmental assessment for 30 days ending May 27, 2008. We did not receive any comments by that date.

In this document, we are advising the public of our decision and finding of no significant impact regarding the release of the gall wasp Aulacidea acroptilonica as an agent for the biological control of Russian knapweed. This decision is based upon the updated environmental assessment, entitled “Field Release of Aulacidea acroptilonica (Hymenoptera: Cynipidae), an Insect for Biological Control of Russian Knapweed (Acroptilon repens), in the Continental United States” (June 2008). This version of the environmental assessment contains minor editorial changes and addresses our compliance with Executive Order 13175, which requires APHIS to consult with Indian Tribal governments regarding the proposed release of Aulacidea acroptilonica.

The updated environmental assessment and finding of no significant impact may be viewed on the Regulations.gov Web site (see footnote 1). Copies of the updated environmental assessment and finding of no significant impact are also available for public inspection at USDA, room 1141, South Building, 14th Street and Independence Avenue SW., Washington, DC, between 8 a.m. and 4:30 p.m., Monday through Friday, except holidays. Persons wishing to inspect copies are requested to call ahead at (202) 690-2817 to facilitate entry into the reading room. You may request paper copies of the updated environmental assessment and finding of no significant impact by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS's NEPA Implementing Procedures (7 CFR part 372).

Done in Washington, DC, this 19th day of August 2008.
Kevin Shea,
Acting Administrator, Animal and Plant Health Inspection Service.

[FR Doc. E8-19623 Filed 8-22-08; 8:45 am]

BILLING CODE 3410-34-P